SURFACE TRANSPORTATION BOARD

[Docket No. 36722 (Sub-No. 1)]

Chicago, Central & Pacific Railroad Company—Amended Trackage Rights Exemption—Cedar River Railroad Company

Chicago, Central & Pacific Railroad Company (CCP) has filed a verified notice of exemption under 49 CFR 1180.2(d)(7) to acquire limited local trackage rights over a line of railroad of Cedar River Railroad Company (CEDR),¹ between milepost 41.5 in Charles City, Iowa, and milepost 85.0 in London Township, Minn. (the Line), a distance of approximately 43.5 miles.²

¹ The verified notice states that CCP and CEDR are indirect rail carrier subsidiaries of Canadian National Railway Company (CNR), whose U.S. rail carrier subsidiaries (including CCP and CEDR) are held directly or indirectly by CNR's wholly owned subsidiary Grand Trunk Corporation. See Can. Nat'l Ry.—Control—Ill. Cent. Corp., 4 S.T.B. 122 (1999); see also Ill. Cent. Corp.—Control—CCP Holdings, Inc., FD 32858 (STB served May 14, 1996).

² As explained by CCP in its verified notice, CCP operates approximately 725 miles of rail line between Chicago, Ill., and Council Bluffs/Sioux City, Iowa, and CEDR owns approximately 100 miles of rail line extending north from Cedar Falls, Iowa, through Charles City, to Glenville, Minn. The verified notice states that CEDR and CCP connect at Mona Junction in Cedar Falls.

According to the verified notice, CCP acquired overhead trackage rights on CEDR's rail line between Mona Junction and Charles City in 2023.³ CCP states that, on November 3, 2025, it entered into an amended trackage rights agreement with CEDR to permit CCP to acquire extended, limited local trackage rights over the Line so that CCP may operate trains with its own crews to and from an ethanol facility of Absolute Energy LLC (or any successor entity) on CEDR's line at Mona/St. Ansgar, Iowa, as well as to serve other facilities on CEDR's line that tender or receive “co-load” traffic in blocks of at least 25 cars that are combined into unit trains for movement to or from a single off-line location. CCP states that the trackage rights are intended to provide operational flexibility and reliability in service to customers.⁴

³ See Chi., Cent. & Pac. R.R.—Trackage Rts. Exemption—Cedar River R.R., FD 36722 (STB served Sept. 15, 2023) (acquiring overhead trackage rights over approximately 41.5 miles of rail line owned by CEDR between milepost 0.0 at Mona Junction and milepost 41.5 in Charles City).

⁴ CCP states that the amended trackage rights agreement also provides for Iowa Northern Railway Company (IANR), a CCP/CEDR affiliate, to obtain new trackage rights over CEDR's line that overlap with the trackage rights currently held and to be obtained by CCP. The IANR trackage rights transaction is the subject of a separate proceeding. See Iowa N. Ry.—Trackage Rts. Exemption—Cedar River R.R., Docket No. 36869.

The transaction may be consummated on or after December 25, 2025, the effective date of the exemption (30 days after the verified notice was filed).

As a condition to this exemption, any employees affected by the acquisition of the trackage rights will be protected by the conditions imposed in Norfolk & Western Railway—Trackage Rights—Burlington Northern, Inc., 354 I.C.C. 605 (1978), as modified in Mendocino Coast Railway—Lease & Operate—California Western Railroad, 360 I.C.C. 653 (1980).

If the verified notice contains false or misleading information, the exemption is void ab initio. Petitions to revoke the exemption under 49 U.S.C. 10502(d) may be filed at any time. The filing of a petition to revoke will not automatically stay the effectiveness of the exemption. Petitions for stay must be filed no later than December 18, 2025 (at least seven days before the exemption becomes effective).

All pleadings, referring to Docket No. FD 36722 (Sub No. 1), must be filed with the Surface Transportation Board either via e-filing on the Board's website or in writing addressed to 395 E Street SW, Washington, DC 20423-0001. In addition, a copy of each pleading must be served on CCP's representative, Thomas J. Litwiler, Fletcher & Sippel LLC, 29 North Wacker Drive, Suite 800, Chicago, IL 60606-3208.

According to CCP, this action is categorically excluded from environmental review under 49 CFR 1105.6(c) and from historic preservation reporting requirements under 49 CFR 1105.8(b).

Board decisions and notices are available at www.stb.gov.

Decided: December 8, 2025.
By the Board, Anika S. Cooper, Chief Counsel, Office of Chief Counsel.
Brendetta Jones,
Clearance Clerk.

[FR Doc. 2025-22504 Filed 12-10-25; 8:45 am]

BILLING CODE 4915-01-P